FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at http://www.ffiec.gov/nic/.

Unless otherwise noted, comments regarding each of these applications must be received at the Reserve Bank indicated or the offices of the Board of Governors not later than November 15, 2005.

Federal Reserve Bank of Atlanta (Andre Anderson, Vice President) 1000 Peachtree Street, NE., Atlanta, Georgia 30303:

1. Security Bank Corporation, Macon, Georgia, to merge with Rivoli BanCorp, Inc., and thereby indirectly acquire Rivoli Bank and Trust, Macon, Georgia.

A. Federal Reserve Bank of St. Louis (Glenda Wilson, Community Affairs Officer) 411 Locust Street, St. Louis, Missouri 63166-2034:

1. Farmers Capital Bank Corporation, Frankfort, Kentucky; to acquire 100 percent of the voting shares of Citizens Bancorp, Inc., Newport, Kentucky, and thereby indirectly acquire Citizens Bank of Northern Kentucky, Newport, Kentucky.

In connection with this application, Citizens Acquisition Subsidiary Corp., Frankfort, Kentucky has applied to become a bank holding company by by merging with Citizens Bancorp, Inc., and thereby acquire Citizens Bank of Northern Kentucky, Inc., Newport, Kentucky.

Applicants also have applied to acquire Citizens Financial Services, Newport, Kentucky and thereby engage in securities brokerage and financial planning services, pursuant to section 225.28(b)(6) and (7) of Regulation Y.

Federal Reserve Bank of Dallas (W. Arthur Tribble, Vice President) 2200 North Pearl Street, Dallas, Texas 75201-2272:

1. New Waggoner Inc., Vernon, Texas; to become a bank holding company by acquiring 100 percent voting shares of Waggoner National Bancshares, Inc., Vernon, Texas, and indirectly acquiring and Vernon Bancshares, Inc., Wilmington, Delaware, and The Waggoner National Bank of Vernon, Vernon,Texas.

Board of Governors of the Federal Reserve System, October 14, 2005.
Robert deV. Frierson,
Deputy Secretary of the Board.

[FR Doc. E5-5782 Filed 10-19-05; 8:45 am]

BILLING CODE 6210-01-S